DEPARTMENT OF COMMERCE

National Oceanic and Atmospheric Administration

RIN 0648-XD380

Caribbean Fishery Management Council; Public Meeting

AGENCY: National Marine Fisheries Service (NMFS), National Oceanic and Atmospheric Administration (NOAA), Commerce.

ACTION: Notice of a public meeting.

SUMMARY: The Caribbean Fishery Management Council (Council) will hold its 150th meeting.

DATES: The meeting will be held on August 12-13, 2014. The Council will convene on Tuesday, August 12, 2014, from 9 a.m. to 6 p.m., and will reconvene on Wednesday, August 13, 2014, from 8:30 a.m. to 5 p.m.

ADDRESSES: The meeting will be held at the Wyndham Grand Rio Mar Beach Resort & Spa, 6000 Rio Mar Boulevard, Rio Grande, Puerto Rico 00745-6100.

FOR FURTHER INFORMATION CONTACT: Caribbean Fishery Management Council, 270 Muñoz Rivera Avenue, Suite 401, San Juan, Puerto Rico 00918, telephone: (787) 766-5926.

SUPPLEMENTARY INFORMATION: The Council will hold its 150th regular Council Meeting to discuss the items contained in the following agenda:

August 12, 2014, 9 a.m.-5 p.m.

○ Call to Order

○ Adoption of Agenda

○ Consideration of 149th Council Meeting Verbatim Transcriptions

○ Executive Director's Report

○ National Saltwater Recreational Fisheries Policy—Presentation by Danielle Rioux

○ Annual Catch Limit Control Rule

—Consider Outcomes from June Public Hearings

—Affirm Preferred Alternatives

—Deem Codified Text

—Next Step: Approve Amendment for Secretarial Review

○ Abrir la Sierra/Bajo de Sico/Tourmaline (ABT) Consistency of Regulations

—Presentation on Spawning Aggregations at Bajo de Sico—Dr. Michelle Scharer

—Consider Outcomes from July Public Hearing in Mayaguez, Puerto Rico

—Council Considers Public Hearing Draft

—Confirm Preferred Alternatives

—Next Step: Approve Amendment for Secretarial Review at December 2014 Meeting

○ Timing of Accountability Measure-based Closures Action

—Consider outcomes from June Scoping Meetings

—Next Step: Request staff to prepare Public Hearing Draft for consideration at December 2014 meeting

○ Island-Based Fishery Management

—Outcomes from the August 2014 Scientific and Statistical Committee meeting

• Discussion of Process for selecting species for management

• Plans for reevaluating reference points including Annual Catch Limits

—Summary of comments received during 90-day comment period extension

—Composition and schedule for Island-based Advisory Panels

—Next Step: Council Directions to Staff to Initiate the Development of the Options Paper for each Island Group

○ Permits White Paper

—Presentation: Developing Commercial Permits for Fishing in Federal Waters

—Next Step: Request staff to Prepare Scoping Document for Consideration at the December 2014 Meeting

—Public Comment Period—

(5-Minutes Presentations)

August 12, 2014, 5:15 p.m.-6 p.m.

○ Administrative Matters

—Budget Update FY 2014/15

—Closed Session to Discuss SSC/AP/OEAP Memberships

—Other Business

—SOPPs

Note: From 7 p.m. to 8:30 p.m., NMFS will be holding a “National Saltwater Recreational Fisheries Policy Stakeholder Town Hall” at the same Conference Room of the CFMC Meeting.

August 13, 2014, 8:30 a.m.-5 p.m.

○ Outreach and Education Report—Dr. Alida Ortíz

○ Electronic Monitoring Implementation Plan

○ Marine Outreach and Education USVI Style—presentation by Lia Ortiz

○ Incorporating Habitat Science into the Assessment and Management of Fishery Stocks—presentation by Tony Marshak

○ Fuete y Verguilla Special Edition on St. Croix Heritage—Presentation by Ms. Janet Ramos

○ Enforcement Issues:

—Puerto Rico-DNER

—U.S. Virgin Islands-DPNR

—U.S. Coast Guard

○ Meetings Attended by Council Members and Staff

—Public Comment Period—

(5-Minute Presentations)

○ Other Business

—Approaching the end of the Grouper Unit 4 Rebuilding Plan—Guidance?

—Fishery-Independent Data Workshop Plans

—Development of Mechanisms to Ensure Continued Compatibility between State and Federal Regulations Particularly with Respect to ACLs and Closures

○ Next Council Meeting

The established times for addressing items on the agenda may be adjusted as necessary to accommodate the timely completion of discussion relevant to the agenda items. To further accommodate discussion and completion of all items on the agenda, the meeting may be extended from, or completed prior to the date established in this notice.

The meeting is open to the public, and will be conducted in English. English/Spanish interpretation will be provided. Fishers and other interested persons are invited to attend and participate with oral or written statements regarding agenda issues.

Although non-emergency issues not contained in this agenda may come before this group for discussion, those issues may not be subjects for formal action during the meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: July 21, 2014.
Tracey L. Thompson,
Acting Deputy Director, Office of Sustainable Fisheries, National Marine Fisheries Service.

[FR Doc. 2014-17429 Filed 7-23-14; 8:45 am]

BILLING CODE 3510-22-P